DEPARTMENT OF COMMERCE

International Trade Administration

[A-570-831]

Fresh Garlic from the People's Republic of China: Partial Rescission of Antidumping Duty Administrative Review

AGENCY: Import Administration, International Trade Administration, Department of Commerce.

FOR FURTHER INFORMATION CONTACT: Martha Douthit or Summer Avery, AD/CVD Operations, Office 6, Import Administration, International Trade Administration, U.S. Department of Commerce, 14th Street and Constitution Avenue, NW, Washington DC 20230; telephone: (202) 482-5050 or (202) 482-4052, respectively.

SUPPLEMENTARY INFORMATION:

Background

On December 24, 2008, the Department published a notice of initiation of an administrative review of fresh garlic from the People's Republic of China (PRC), covering the period November 1, 2007 through October 31, 2008. See Initiation of Antidumping and Countervailing Duty Administrative Reviews and Request for Revocation in Part, 73 FR 79055 (December 24, 2008) (Initiation Notice).

On April 3, 2009, the Fresh Garlic Producers Association (FGPA) and its individual members¹ (collectively, Petitioners) withdrew their request of review of certain companies in this administrative review. On April 28, 2009, Shenzhen Xinboda Industrial Co., Ltd. (Xinboda), also withdrew its own review request. See the Attachment to this notice for the list of companies for which the Department is rescinding its review.

¹ The individual members of the FGPA are Christopher Ranch L.L.C., The Garlic Company, Valley Garlic, and Vessey and Company, Inc.

Partial Rescission

Pursuant to 19 CFR 351.213(d)(1), the Secretary will rescind an administrative review, in whole or in part, if a party that requested the review withdraws the request within 90 days of the date of publication of the initiation notice of the requested review. Further, pursuant to 19 CFR 351.213(d)(1), the Department is permitted to extend this time limit if it is reasonable to do so. On March 24, 2009, at the request of Petitioners, the Department extended the deadline for the withdrawal of review requests to March 31, 2009. On March 31, 2009, the Department further extended the deadline for the withdrawal of review requests to April 3, 2009.

For all but one of the companies listed in the Attachment, Petitioners were the only party that requested the review. In addition to Petitioners' request for a review of Xinboda, the company itself requested a review. Although Xinboda's withdrawal of its request for a review was beyond the April 3 deadline, the Department has decided to accept its withdrawal given that Petitioners timely withdrew their request for review of Xinboda.

Therefore, in accordance with 19 CFR 351.213(d)(1), we are rescinding this review with respect to all companies named in the Attachment to this notice.

Assessment Rates

The Department will instruct U.S. Customs and Border Protection (CBP) to assess antidumping duties on all appropriate entries. For those companies for which this review has been rescinded and which have a separate rate, antidumping duties shall be assessed at rates equal to the cash deposit of estimated antidumping duties required at the time of entry, or withdrawal from warehouse, for consumption, in accordance with 19 CFR 351.212(c)(2). The Department intends to issue appropriate assessment instructions directly to CBP 15 days after publication of this notice. For those companies for which this review has been rescinded, but which do not have a separate rate at this time (and thus remain part of the PRC-wide entity), the Department will issue assessment instructions upon the completion of this administrative review.

Notification to Importers

This notice serves as a final reminder to importers for whom this review is being rescinded of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification Regarding Administrative Protective Orders

This notice also serves as a reminder to parties subject to administrative protective orders (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which may be subject to sanctions.

This notice is issued and published in accordance with section 777(i)(1) of the Tariff Act of 1930, as amended (the Act), and 19 CFR 351.213(d)(4).

Dated: October 8, 2009.
John M. Andersen,
Acting Deputy Assistant Secretary for Antidumping and Countervailing Duty Operations.

Attachment

The following companies were named in our Initiation Notice. Subsequently, interested parties withdrew all relevant requests for review for these companies. Therefore, pursuant to 19 CFR 351.213(d)(1), we are rescinding this administrative review with respect to these companies.

American Pioneer Shipping

Anhui Dongqian Foods Ltd.

Anqiu Haoshun Trade Co., Ltd.

APS Qingdao

Chengwu County Yuanxiang Industry & Commerce Co., Ltd

Chiping Shengkang Foodstuff Co., Ltd.

Hangzhou Guanyu Foods Co., Ltd.

Hongqiao International Logistics Co

IT Logistics Qingdao Branch

Jinan Solar Summit International Co., Ltd.

Jining Highton Trading Co., Ltd.

Jinxian County Huaguang Food Import & Export, Ltd.

Jinxiang Dacheng Food Co., Ltd.

Jinxiang Hejia Co., Ltd.

Jinxiang Jinma Fruits Vegetables Products Co., Ltd

Jinxiang Tianheng Trade Co., Ltd.

Juye Homestead Fruits and Vegetables Co., Ltd.

Laizhou Xubin Fruits and Vegetables

Linyi City Heding District Jiuli Foodstuff Co

Ningjin Ruifeng Foodstuff Co., Ltd.

Qingdao Lianghe International Trade Co., Ltd.

Qingdao Tiantaixing Foods Co., Ltd.

Qingdao Winner Foods Co., Ltd. Qingdao Yuankang International

Samyoung America (Shanghai) Inc.

Shandong Chengshun Farm Produce Trading Co., Ltd.

Shandong Chenhe Int'l Trading Co., Ltd.

Shandong Dongsheng Eastsun Foods Co., Ltd.

Shandong Garlic Company

Shandong Jinxiang Zhengyang Import & Export Co., Ltd.

Shandong Sanxing Food Co., Ltd.

Shandong Xingda Foodstuffs Group Co., Ltd.

Shandong Yipin Agro (Group) Co., Ltd

Shenzhen Xinboda Industrial Co., Ltd.

T&S International, LLC

Taian Eastsun Foods Co., Ltd.

Weifang Chenglong Import & Export Co., Ltd.

Weifang Naike Foodstuffs Co., Ltd.

WSSF Corporation (Weifang)

Xiamen Huamin Import Export Company

You Shi Li International Trading Co., Ltd.

Zhangzhou Xiangcheng Rainbow Greenland Food Co., Ltd.

Zhengzhou Harmoni Spice Co., Ltd.

Zhengzhou Yuanli Trading Co., Ltd.

[FR Doc. E9-25350 Filed 10-20-09; 8:45 am]

BILLING CODE 3510-DS-S